CONSUMER PRODUCT SAFETY COMMISSION

[Docket No. CPSC-2018-0006]

Draft Guidelines for Determining Age Appropriateness of Toys

AGENCY: U.S. Consumer Product Safety Commission.

ACTION: Notice of availability.

SUMMARY: The Consumer Product Safety Commission (Commission, or CPSC) is announcing the availability of a draft document titled, “Guidelines for Determining Age Appropriateness of Toys.” The Commission requests comments on the draft document.

DATES: Submit comments by June 11, 2018.

ADDRESSES: You may submit comments, identified by Docket No. CPSC-2018-0006, by any of the following methods:

Electronic Submissions: Submit electronic comments to the Federal eRulemaking Portal at: www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East-West Highway, Bethesda, MD 20814; telephone (301) 504-7923.

Instructions: All submissions received must include the agency name and docket number for this notice. All comments received may be posted without change, including any personal identifiers, contact information, or other personal information provided, to: www.regulations.gov. Do not submit confidential business information, trade secret information, or other sensitive or protected information that you do not want to be available to the public. If furnished at all, such information should be submitted in writing.

Docket: For access to the docket to read background documents or comments received, go to: www.regulations.gov, and insert the docket number CPSC-2018-0006, into the “Search” box, and follow the prompts.

FOR FURTHER INFORMATION CONTACT: Khalisa Phillips, Psychologist, Division of Human Factors, U.S. Consumer Product Safety Commission, 5 Research Place, Rockville, MD 20850-3213; telephone: 301-987-2592; email: KPhillips@cpsc.gov.

SUPPLEMENTARY INFORMATION: The U.S. Consumer Product Safety Commission (CPSC) staff,¹ with input from the Child and Family Research Section staff at the National Institute of Child Health and Human Development (NICHD) within the National Institutes of Health (NIH), has revised the current (2002) Age Determination Guidelines: Relating Children's Ages to Toy Characteristics and Play Behavior, based on a literature review, parent toy survey, and observational study of children from multiple age groups playing with select toys. The draft revised guidance document, Guidelines for Determining Age Appropriateness of Toys, addresses toys that have come onto the market since the last update and provides changes to the recommended age group for certain classic toys. Many toy-related injuries could be prevented by age-labeling products for the age group for whom they are intended. Providing the consumer product toy industry with better age-grading guidance, and describing how these principles can be applied to their products, can help reduce product-related incidents and reduce costly compliance and enforcement actions.

¹ This document was prepared under the direction of CPSC staff and has not been reviewed and does not necessarily reflect the views of the Commission.

The draft guidance document is intended for CPSC staff, industry stakeholders, third party testing laboratories, and manufacturers in the consumer product toy sector. The draft guidance can be tailored to meet the needs of a particular toy, recognizing that not all guidance applies to all products. The draft guidance document is not a rule and does not establish legally enforceable responsibilities.

The draft guidance document is available on the Commission's website at: https://www.cpsc.gov/s3fs-public/DRAFT%20Age%20Determination%20Guidelines%20for%20Toys.pdf?xc38j_e7mgBIBA.wPVonS_Q0_MN3fYHz, and from the Commission's Office of the Secretary, at the location listed in the ADDRESSES section of this notice.

The Commission invites comments on the draft document, “Determining Age Appropriateness of Toys.” Specifically, the Commission is seeking comments on the recommended age groups for all toys that have been added to or changed in the document since the last update, and on the research methodology and analyses performed in the study. See “Draft Summary Table for Updating Age Determination Guidelines for Toys” (available at https://www.cpsc.gov/s3fs-public/Draft%20Summary%20Spreadsheet%20for%20Updating%20Age%20Determination%20Guidelines%20for%20Toys.xlsx?uQIGW9pCK4nDRnWBjiYUyUaMG99bNQAH) for a list of all toys and respective age recommendations; and “CPSC Toy Guidelines: Research Document” (available at https://www.cpsc.gov/s3fs-public/Draft%20Research%20Document%20for%20Updating%20Age%20Determination%20Guidelines%20for%20Toys.pdf?0ap6_dYUWpkLn.Bqc.S2qXpJJnr3Ll3N) for a summary of research methods and analyses performed in the study. Comments should be submitted by June 11, 2018. Information on how to submit comments can be found in the ADDRESSES section of this notice.

Alberta E. Mills,
Secretary, Consumer Product Safety Commission.

[FR Doc. 2018-06066 Filed 3-26-18; 8:45 am]

BILLING CODE 6355-01-P